DEPARTMENT OF THE INTERIOR

Bureau of Indian Affairs

Final Environmental Impact Statement for the North Fork Rancheria's Proposed 305-Acre Trust Acquisition and Hotel/Casino Project, Madera County, CA

AGENCY: Bureau of Indian Affairs, Interior.

ACTION: Notice of availability.

SUMMARY: This notice advises the public that the Bureau of Indian Affairs (BIA) as lead agency, with the North Fork Rancheria of Mono Indians (Tribe), California Department of Transportation (Caltrans), Madera Irrigation District, City of Madera, National Indian Gaming Commission (NIGC), and U.S. Environmental Protection Agency (EPA) as cooperating agencies, intends to file a Final Environmental Impact Statement (FEIS) with the EPA for the Tribe's proposed 305-acre trust acquisition and casino-resort project in unincorporated Madera County, just north of the City of Madera, California, and that the FEIS is now available for public review.

DATES: The Record of Decision (ROD) on the proposed action will be issued no sooner than 30 days after the release of the FEIS. Submit comments on the FEIS by September 7, 2010.

ADDRESSES: Mail or hand carry written comments to Dale Morris, Regional Director, Bureau of Indian Affairs, Pacific Region, 2800 Cottage Way, Sacramento, California 95825. See SUPPLEMENTARY INFORMATION for directions on submitting comments and public availability of the FEIS.

FOR FURTHER INFORMATION CONTACT: John Rydzik, (916) 978-6051.

SUPPLEMENTARY INFORMATION: The Tribe has requested that the BIA take into trust 305 acres currently held in fee, on which the Tribe proposes to develop a hotel, casino, parking facilities, and supporting infrastructure. The proposed 305-acre site (Madera Site) is located in unincorporated Madera County, California, just north of the City of Madera and adjacent to State Route 99 (SR-99). The Madera Site is bounded on the north by Avenue 18, rural residential land, light industrial land, and vacant land; on the east by Golden State Boulevard and SR-99; on the south by agricultural land and residential land; and on the west by Road 23 and agricultural land. The Proposed Project includes the development of an approximately 472,000 square foot hotel and casino resort and associated facilities, which include a main gaming hall, food and beverage services, retail space, banquet/meeting space, and administration space. Food and beverage facilities would include three full service restaurants, a five-tenant food court, a buffet, four bars and a lounge. The hotel would include 200 rooms, a resort style pool area and a spa. Approximately 4,500 parking spaces would be provided.

Project alternatives considered in the FEIS include: (A) The proposed casino and hotel alternative; (B) a reduced-intensity alternative; (C) a non-gaming use alternative; (D) the North Fork Rancheria alternative site; and (E) a no action alternative. Alternative A has been selected as the Preferred Alternative, as discussed in the FEIS. The alternatives are intended to assist the review of the issues presented, but the Preferred Alternative does not necessarily reflect what the final decision will be, because a complete evaluation of the criteria listed in 25 CFR part 151 may lead to a final decision that selects an alternative other than the Preferred Alternative, including no action, or that selects a variant of the Preferred or another of the alternatives analyzed in the FEIS.

Environmental issues addressed in the FEIS include land resources, water resources, air quality, biological resources, cultural and paleontological resources, socioeconomic conditions, environmental justice, transportation and circulation, land use, public services, noise, hazardous materials, visual resources, cumulative effects, indirect effects and mitigation measures.

The BIA has afforded other government agencies and the public extensive opportunity to participate in the preparation of this EIS. The BIA published a notice of intent to prepare the EIS for the proposed action in the Federal Register on October 27, 2004 (69 FR 62721). The BIA held a public scoping meeting on November 15, 2004, in Madera, California. A Notice of Correction (NOC) was published in the Federal Register on April 6, 2005, to amend the October 2004 NOI to include a description of possible project alternatives and further extend the scoping comment period to May 6, 2005. A Notice of Availability for the Draft EIS (DEIS) was published in the Federal Register on February 15, 2008 (73 FR 8898). The DEIS was available for public comment from February 15 to March 31, 2008. The BIA held a public hearing on the DEIS on March 12, 2008, in the City of Madera.

Directions for Submitting Comments

Please include your name, return address and the caption, “FEIS Comments, North Fork Rancheria's Hotel/Casino, Fee-to-Trust Acquisition Project,” on the first page of your written comments.

Public Availability of the FEIS

The FEIS is available for public review at the Madera County Public Library, 121 N. G. Street, Madera, California 93637; and at the Madera County Public Library, Chowchilla Branch, 300 Kings Ave., Chowchilla, California 93610. General information for the Madera County Public Library can be obtained by calling (559) 675-7871, and (559) 665-2630 for the Madera County, Chowchilla Branch. The FEIS is also available on the following Web site: http://www.NorthForkEIS.com.

To obtain a compact disk copy of the FEIS, please provide your name and address in writing or by voicemail to John Rydzik, Chief of the Division of Environmental, Cultural Resources Management and Safety, at the address listed in the ADDRESSES section of this notice, or at the telephone number listed in the FOR FURTHER INFORMATION CONTACT section of this notice.

Note: Individual paper copies of the FEIS will be provided only upon payment of applicable printing expenses by the requestor for the number of copies requested.

Public Comment Availability

Comments, including names and addresses of respondents, will be available for public review at the mailing address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality Regulations (40 CFR parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: July 20, 2010.
Donald Laverdure,
Deputy Assistant Secretary—Indian Affairs.

[FR Doc. 2010-19180 Filed 8-5-10; 8:45 am]

BILLING CODE 4310-W7-P